DEPARTMENT OF HEALTH AND HUMAN SERVICES

National Institutes of Health Statement of Organization, Functions, and Delegations of Authority

Part N, National Institutes of Health (NIH), of the Statement of Organization, Functions, and Delegations of Authority for the Department of Health and Human Services (40 FR 22859, May 27, 1975, as amended most recently at 77 FR 1941, January 12, 2012, and redesignated from Part HN as Part N at 60 FR 56605, November 9, 1995), is amended as set forth below to rename the National Center for Complementary and Alternative Medicine (NCCAM).

Section N-D, Organization and Functions, under the heading National Center for Complementary and Alternative Medicine (NCCAM), is renamed to the National Center for Complementary and Integrative Health (NCCIH).

Delegations of Authority Statement: All delegations and redelegations of authority to officers and employees of NIH that were in effect immediately prior to the effective date of this reorganization and are consistent with this reorganization shall continue in effect, pending further redelegation.

Dated: March 20, 2015.
Francis S. Collins,
Director, NIH.

[FR Doc. 2015-07064 Filed 3-26-15; 8:45 am]

BILLING CODE 4140-01-P